DEPARTMENT OF LABOR

Employment and Training Administration

[TA-W-82,963; TA-W-82,963A]

Bausch & Lomb Incorporated, North Goodman Street Facility, a Subsidiary of Valeant Pharmaceuticals International, Inc., Including On-Site Leased Workers from Kelly Services Aerotek and Computech Corp., Rochester, New York; Bausch & Lomb Incorporated, Bausch & Lomb Place Facility, a Subsidiary of Valeant Pharmaceuticals International, Inc., Including On-Site Leased Workers From Kelly Services and Computech Corp., Rochester, New York; Amended Certification Regarding Eligibility To Apply for Worker Adjustment Assistance

In accordance with Section 223 of the Trade Act of 1974, as amended (“Act”), 19 U.S.C. 2273, the Department of Labor issued a Certification of Eligibility to Apply for Worker Adjustment Assistance on July 25, 2013, applicable to workers from Bausch & Lomb Incorporated, North Goodman Street Facility, a subsidiary of Valeant Pharmaceuticals International, Inc., including on-site leased workers from Kelly Services and Aerotek, Rochester, New York (TA-W-82,963) and Bausch & Lomb Incorporated, Bausch & Lomb Place Facility, a subsidiary of Valeant Pharmaceuticals International, Inc., including on-site leased workers from Kelly Services, Rochester, New York (TA-W-82,963A). The Department's Notice of Determination was published in the Federal Register on December 23, 2013 (78 FR 77498).

At the request of a State Workforce Official, the Department reviewed the certification for workers of the subject firm. The workers' firm is engaged in the production of contact lenses.

The investigation confirmed that workers from Computech Corp. were employed on site at the Bausch & Lomb Incorporated facilities. The workers were sufficiently under the operational control of Bausch & Lomb Incorporated to be considered leased workers.

Based on these findings, the Department is amending this certification to include the on-site leased workers from Computech Corp.

The amended notice applicable to TA-W-82,963 is hereby issued as follows:

“All workers of Bausch & Lomb Incorporated, North Goodman Street Facility, a subsidiary of Valeant Pharmaceuticals International, Inc., including on-site leased workers from Kelly Services Aerotek and Computech Corp., Rochester, New York (TA-W-82,963) and Bausch & Lomb Incorporated, Bausch & Lomb Place Facility, a subsidiary of Valeant Pharmaceuticals International, Inc., including on-site leased workers from Kelly Services and Computech Corp., Rochester, New York (TA-W-82,963A), who became totally or partially separated from employment on or after August 7, 2012 through December 2, 2015, and all workers in the group threatened with total or partial separation from employment on the date of certification through December 2, 2015, are eligible to apply for adjustment assistance under Chapter 2 of Title II of the Trade Act of 1974, as amended.”

Signed in Washington, DC this 21st day of May, 2015.
Michael W. Jaffe,
Certifying Officer, Office of Trade Adjustment Assistance.

[FR Doc. 2015-15964 Filed 6-29-15; 8:45 am]

BILLING CODE 4510-FN-P